DEPARTMENT OF HOMELAND SECURITY

Coast Guard

33 CFR Part 117

[CGD01-06-011]

Drawbridge Operation Regulations; Niantic River, Niantic, CT

AGENCY: Coast Guard, DHS.

ACTION: Notice of temporary deviation from regulations.

SUMMARY: The Commander, First Coast Guard District, has issued a temporary deviation from the drawbridge operation regulations governing the operation of the Amtrak Bridge at mile 0.0, across the Niantic River, at Niantic, Connecticut. This deviation allows the bridge owner to require an advance notice for bridge openings from February 3, 2006 through April 3, 2006. This deviation is necessary in order to facilitate emergency unscheduled bridge maintenance.

DATES: This deviation is effective from February 3, 2006 through April 3, 2006.

ADDRESSES: Materials referred to in this document are available for inspection or copying at Commander (dpb) First Coast Guard District, 408 Atlantic Avenue, Boston, Massachusetts, 02110, between 7 a.m. and 3 p.m., Monday through Friday, except Federal holidays. The telephone number is (617) 223-8364. The Commander (dpb), First Coast Guard District, maintains the public docket for this temporary deviation.

FOR FURTHER INFORMATION CONTACT: Judy Leung-Yee, Project Officer, First Coast Guard District, at (212) 668-7195.

SUPPLEMENTARY INFORMATION: The Amtrak Bridge has a vertical clearance in the closed position of 11 feet at mean high water and 14 feet at mean low water. The existing drawbridge operating regulations are listed at 33 CFR 117.215(a).

The owner of the bridge, National Railroad Passenger Corporation (Amtrak), requested a temporary deviation from the drawbridge operating regulations to facilitate the emergency replacement of the bridge control system, after informing the Coast Guard of this emergency on January 12, 2006. The bridge will not be able to open on signal for vessel traffic during the performance of this scheduled maintenance.

The bridge owner did not provide the required thirty-day notice to the Coast Guard for this deviation; however, in accordance with 33 CFR 117.35(b) this deviation was requested because the repairs are necessary repairs that must be performed without undue delay in order to assure the continued safe reliable operation of the bridge and prevent an unscheduled closure due to component failure.

As a result, the bridge owner has requested that mariners provide an advance notice for bridge openings to allow maintenance personnel sufficient time to manually open the bridge.

Under this temporary deviation, in effect from February 3, 2006 through April 3, 2006, the Amtrak Bridge at mile 0.0, across the Niantic River, Connecticut, shall open on signal from 5 a.m. to 10 p.m. after a one-hour notice is given and from 10 p.m. to 5 a.m., after a two-hour notice is given by calling the number posted at the bridge.

In accordance with 33 CFR 117.35(b), this work will be performed with all due speed in order to return the bridge to normal operation as soon as possible. This deviation from the operating regulations is authorized under 33 CFR 117.35.

Dated: February 2, 2006.
Gary Kassof,
Bridge Program Manager, First Coast Guard District.

[FR Doc. 06-1252 Filed 2-9-06; 8:45 am]

BILLING CODE 4910-15-P